DEPARTMENT OF COMMERCE

Foreign-Trade Zones Board

[B-52-2020]

Foreign-Trade Zone 38—Spartanburg County, South Carolina; Application for Production Authority; Teijin Carbon Fibers, Inc.; (Polyacrylonitrile-based Carbon Fiber); Extension of Rebuttal Comment Period

The current rebuttal comment period pertaining to the amended application for production authority within Foreign-Trade Zone (FTZ) 38 on behalf of Teijin Carbon Fibers, Inc., is being extended to September 10, 2021, based on a request from the applicant. The original closing of the rebuttal period had been set for September 2, 2021 (86 FR 38010, July 19, 2021). Submissions shall be addressed to the FTZ Board's Executive Secretary and sent to: ftz@trade.gov.

For further information, contact Diane Finver at Diane.Finver@trade.gov or (202) 482-1367.

Dated: August 26, 2021.
Andrew McGilvray,
Executive Secretary.

[FR Doc. 2021-18884 Filed 8-31-21; 8:45 am]

BILLING CODE 3510-DS-P